DEPARTMENT OF ENERGY

Federal Energy Regulatory Commission

[Docket No. EG02-32-000, et al.]

Entergy Nuclear Vermont Yankee, LLC, et al.; Electric Rate and Corporate Regulation Filings

November 26, 2001.

Take notice that the following filings have been made with the Commission:

1. Entergy Nuclear Vermont Yankee, LLC

[Docket No. EG02-32-000]

Take notice that on November 20, 2001, Entergy Nuclear Vermont Yankee, LLC, 440 Hamilton Avenue, White Plains, NY 10601, filed with the Federal Energy Regulatory Commission an application for determination of exempt wholesale generator status pursuant to part 365 of the Commission's regulations. The applicant is a limited liability company that will engage directly or indirectly and exclusively in the business of owning and/or operating eligible facilities in the United States and selling electric energy at wholesale. The applicant proposes to own the Vermont Yankee Nuclear Power Station, and certain ancillary facilities necessary for the purpose of being exclusively engaged in generating electricity and selling it at wholesale, located in Vernon and Brattleboro, Vermont. All electric energy sold by the applicant will be sold exclusively at wholesale. The applicant seeks a determination of its exempt wholesale generator status.

Comment date: December 17, 2001, in accordance with Standard Paragraph E at the end of this notice. The Commission will limit its consideration of comments to those that concern the adequacy or accuracy of the application.

2. Dominion Equipment III, Inc.

[Docket No. EG02-33-000]

Take notice that on November 21, 2001, Dominion Equipment III, Inc. (DEQ) filed with the Federal Energy Regulatory Commission (Commission) an application for determination of exempt wholesale generator status pursuant to part 365 of the Commission's regulations.

DEQ, a Delaware corporation, is a wholly owned subsidiary of Dominion Energy, Inc., a Virginia corporation, which in turn is a wholly owned subsidiary of Dominion Resources, Inc., also a Virginia corporation. DEQ will be exclusively engaged in the business of owning, operating and selling electricity exclusively at wholesale from an approximately 1180 MW electric generating facility located in Morrisville, Pennsylvania. The facility will be interconnected with PECO transmission facilities under the operational control of PJM.

Comment date: December 17, 2001, in accordance with Standard Paragraph E at the end of this notice. The Commission will limit its consideration of comments to those that concern the adequacy or accuracy of the application.

3. Fairless Energy, LLC

[Docket No. EG02-34-000]

Take notice that on November 21, 2001, Fairless Energy, LLC (Fairless) filed with the Federal Energy Regulatory Commission (Commission) an application for determination of exempt wholesale generator status pursuant to part 365 of the Commission's regulations.

Fairless, a Delaware limited liability company, is a wholly owned subsidiary of Dominion Fairless Hills, Inc. (DFH), a Delaware corporation. DFH is a wholly owned subsidiary of Dominion Energy, Inc., a Virginia corporation, which in turn is a wholly owned subsidiary of Dominion Resources, Inc., also a Virginia corporation. Fairless will be exclusively engaged in the business of leasing, operating and selling electricity exclusively at wholesale from an approximately 1180 MW electric generating facility located in Bucks County, Pennsylvania. The facility will be interconnected with transmission facilities under the operational control of PJM Interconnection, L.L.C.

Comment date: December 17, 2001, in accordance with Standard Paragraph E at the end of this notice. The Commission will limit its consideration of comments to those that concern the adequacy or accuracy of the application.

4. Dynegy Power Marketing, Inc.

[Docket No. ER01-1718-002]

Take notice that on November 21, 2001, Dynegy Power Marketing, Inc., acting as agent for Cabrillo Power I LLC, El Segundo Power, LLC and Long Beach Generation LLC, tendered for filing with the Federal Energy Regulatory Commission (Commission) a long-term agreement for power sales to the California Department of Water Resources pursuant to the Commission's Letter Order issued on June 13, 2001 in the above-referenced proceeding, and Order No. 614.

Comment date: December 12, 2001, in accordance with Standard Paragraph E at the end of this notice.

5. Dynegy Power Marketing, Inc., Illinova Energy Partners, Inc., Dynegy Power Services, Inc., Illinois Power Company, El Segundo Power, LLC, Long Beach Generation LLC, Cabrillo Power I LLC, Cabrillo Power II LLC, Rockingham Power, LLC, Rocky Road Power, LLC, Dynegy Midwest Generation, Inc., Calcasieu Power, LLC, Dynegy Danskammer, L.L.C., Dynegy Roseton, L.L.C., Heard County Power, L.L.C., Riverside Generating Company, L.L.C., and Nicor Energy, LLC.

[Docket Nos. ER99-4160-002, ER94-1475-020, ER94-1612-025, ER99-3322-001, ER98-1127-004, ER98-1796-003, ER99-1115-004, ER99-1116-001, ER99-1567-001, ER99-2157-001, ER00-1895-001, ER00-1049-002, ER01-140-001, ER01-141-001, ER01-943-001, ER01-1044-001, and ER01-1169-001]

Take notice that on November 16, 2001, Dynegy Inc. (Dynegy), on behalf of the above-noted entities (Dynegy Affiliates), filed a notification of change in status (Notice) with the Commission in connection with the pending merger between Dynegy and Enron Corp. (Enron). The Notice provides that each of the Dynegy Affiliates will treat Portland General Electric Company as an affiliate during the pending merger.

Comment date: December 7, 2001, in accordance with Standard Paragraph E at the end of this notice.

6. Colton Power L.P.

[Docket Nos. ER01-2644-002 and ER01-3056-002]

Take notice that on November 19, 2001, Colton Power L.P. (Applicant) tendered for filing an amended market-based rate schedule under section 205 of the Federal Power Act, in order to comply with the Federal Energy Regulatory Commission's Letter Order issued on November 16, 2001 in Docket Nos. ER01-2644-000, ER01-2644-001, and ER01-3056-000.

Comment date: December 10, 2001, in accordance with Standard Paragraph E at the end of this notice.

7. SeTrans RTO

[Docket Nos. RT01-100-000, RT01-77-000 and RT01-75-000]

Take notice that on November 20, 2001, the City of Tallahassee, Dalton Utilities, Entergy Services, Inc., acting as agent for Entergy Arkansas, Inc., Entergy Gulf States, Inc., Entergy Louisiana, Inc., Entergy Mississippi, Inc. and Entergy New Orleans, Inc., Georgia Transmission Corporation, JEA (formerly, Jacksonville Electric Authority), MEAG Power, South Carolina Public Service Authority, South Mississippi Electric Power Association, and Southern Company Services, Inc., acting as agent for Alabama Power Company, Georgia Power Company, Gulf Power Company, Mississippi Power Company, and Savannah Electric and Power Company, submitted a Supplemental Status Report for the Regional Transmission Organization known as SeTrans. The purpose of the filing is multifold. First, it informs the Commission that the Entergy Companies have joined in the effort to develop the SeTrans RTO. Second, the SeTrans Sponsors are submitting the governance and scope elements of the SeTrans RTO model. Third, the SeTrans Sponsors are notifying the Commission of, and inviting the Commission to send representatives to, a meeting that will be held in Atlanta, Georgia on January 14-15, 2002, to form a Stakeholder Advisory Committee to assist in the development of SeTrans.

Comment date: December 20, 2001, in accordance with Standard Paragraph E at the end of this notice.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29939 Filed 12-3-01; 8:45 am]

BILLING CODE 6717-01-P